DEPARTMENT OF ENERGY

Federal Energy Regulatory Commission

[Docket No. RP99-381-000]

Wyoming Interstate Company, Ltd.; Notice of Informal Settlement Conference

March 16, 2000.

Take notice that an informal settlement conference will be convened in this proceeding commencing at 10:00 a.m. on Thursday, March 23, 2000, at the offices of the Federal Energy Regulatory Commission, 888 First Street, NE, Washington, DC 20426, for the purposes of exploring the possible settlement of the above-referenced docket.

Any party, as defined by 18 CFR 385.102(c), or any participant as defined by 18 CFR 385.102(b), is invited to attend. Persons wishing to become a party must move to intervene and receive intervenor status pursuant to the Commission's regulations (18 CFR 385.214).

For additional information, please contact Arnold H. Meltz at (202) 208-2161, or Michael D. Cotleur at (202) 208-1076.

David P. Boergers,
Secretary.

[FR Doc. 00-7028 Filed 3-21-00; 8:45 am]

BILLING CODE 6717-01-M